DEPARTMENT OF LABOR

Agency Information Collection Activities; Comment Request; National Database of Childcare Costs Submission for Review: National Database of Childcare Costs

AGENCY: Women's Bureau, DOL.

ACTION: Notice of availability; request for comments.

SUMMARY: The U.S. Department of Labor, Women's Bureau (WB) is soliciting comments concerning a proposed information collection request (ICR) titled, “National Database of Childcare Costs”. This comment request is part of continuing Departmental efforts to reduce paperwork and respondent burden in accordance with the Paperwork Reduction Act of 1995 (PRA).

DATES: Comments are encouraged and will be accepted until February 25, 2019.

ADDRESSES: A copy of this ICR with applicable supporting documentation; including a description of the likely respondents, proposed frequency of response, and estimated total burden may be obtained without charge by contacting the U.S. Department of Labor, Women's Bureau, Room S-3002, 200 Constitution Avenue NW, Washington, DC 20210, (202)693-6710, Womens.Bureau@dol.gov. Comments in response to this notice should be submitted electronically through the Federal eRulemaking Portal at https://www.regulations.gov by selecting the Docket ID number or via postal mail, commercial delivery, or hand delivery. Please note that comments submitted by fax or email and those submitted after the comment period will not be accepted. Comments submitted by postal mail or delivery should be addressed to U.S. Department of Labor, Women's Bureau, Room S-3002, 200 Constitution Avenue NW, Washington, DC 20210.

FOR FURTHER INFORMATION CONTACT: For specific questions related to collection activities, contact Sarah Miller by telephone at (202)693-6716 (this is not a toll-free number) or by email at miller.sarah@dol.gov. For technical questions, contact: Liana Christin Landivar by telephone at (202)693-6713 (this is not a toll-free number) or by email at landivar.liana.c@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed. This proposed information collection seeks to establish the National Database of Childcare Costs. State-administered Market Rate Surveys are conducted by state human services or workforce development offices as a requirement to receive Child Care and Development Block Grants (CCDBG). The surveys establish a benchmark of the local prices of various types of care (e.g., center-based, home-based, family-provided) by age of children (i.e., infants, preschool, and school-age children). These surveys are used to establish the maximum reimbursement rates for childcare subsidies. Market Rate Surveys sample all eligible centers and care providers and obtain the full market price of care. Because the state Market Rate Surveys establish the full market price of care in local areas, these data are ideal to examine local childcare prices. However, these data are not reported to the federal government and they are retained by the states.

This information collection would request Market Rate Survey data from all states and reconcile measures for uniformity across the states. Metrics would be made comparable and geography would be standardized to be able to combine these data for analysis with county characteristics available from the American Community Survey. The database would be evaluated to protect respondent confidentiality, implementing proper disclosure avoidance techniques in counties with small samples. The database would be made available to the public as a research tool to understand childcare prices at the county level and changes in childcare prices over time. Section 2 of Public Law 66-259 that established the Women's Bureau authorizes this information collection. See 29 U.S.C. 13.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention ICR Reference Number 201811-1290-002.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Analysis

Agency: DOL-WB.

Type of Review: New Collection.

Collection Title: National Database of Childcare Costs.

ICR Reference Number: 201811-1290-002.

Affected Public: State, Local, and Tribal Governments.

Number of Respondents: 51.

Annual Frequency: Once.

Total Estimated Annual Responses: 51.

Estimated Average Time per Response: 3 hours.

Total Annual Burden Time: 153 hours.

Total Estimated Annual Other Cost Burden: $0.

Authority: 44 U.S.C. 3506(c)(2)(A).

Dated: December 19, 2018.
Patricia G. Greene,
Director, Women's Bureau.

[FR Doc. 2018-27861 Filed 12-21-18; 8:45 am]

BILLING CODE 4510-HD-P